DEPARTMENT OF DEFENSE

Office of the Secretary

Submission for OMB Review; Comment Request

ACTION: Notice.

The Department of Defense has submitted to OMB for clearance, the following proposal for collection of information under the provisions of the Paperwork Reduction Act (44 U.S.C. Chapter 35). The Office of Management and Budget has approved this information collection requirement for use through October 31, 2001.

DATES: Consideration will be given to all comments received by November 5, 2001.

Title, Form Number, and OMB Number: Application for Annuity—Certain Military Surviving Spouses, DD Form 2769; OMB Number 0704-0402.

Type of Request: Extension.

Number of Respondents: 200.

Responses Per Respondent: 1.

Annual Responses: 200.

Average Burden Per Response: 1 Hour.

Annual Burden Hours: 200.

Needs and Uses: The respondents of this information collection are surviving spouses of each member of the uniformed services who (1) died before March 21, 1974, and was entitled to retired or retainer pay on the date of death or (2) was a member of a reserve component of the Armed Forces before October 1, 1978, and at the time of member's death would have been entitled to retired pay. The Defense Authorization Act of FY 1998, Pub. L. 105-85, Section 644 (as amended by Pub. L. 106-65, Section 656) requires the Secretary of Defense to pay an annuity to qualified surviving spouses. The DD Form 2769, Application for Annuity—Certain Military Surviving Spouses, used in this information collection, provides a vehicle for the surviving spouse to apply for the annuity benefit. The Department will use this information to determine if the applicant is eligible for the annuity benefit and make payment to the surviving spouses.

Affected Public: Individuals or Households.

Frequency: On Occasion.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: September 27, 2001.
Patricia L. Toppings,
Alternate OSD Federal Register Liaison Officer, Department of Defense.

[FR Doc. 01-24799 Filed 10-3-01; 8:45 am]

BILLING CODE 5001-08-M